DEPARTMENT OF ENERGY

Revised Record of Decision for the Environmental Impact Statement on a Proposed Nuclear Weapons Nonproliferation Policy Concerning Foreign Research Reactor Spent Nuclear Fuel

AGENCY: National Nuclear Security Administration, Department of Energy.

ACTION: Revised Record of Decision.

SUMMARY: The Department of Energy (DOE) is further revising the Record of Decision (61 FR 25092; May 17, 1996) on the Environmental Impact Statement on a Proposed Nuclear Weapons Nonproliferation Policy Concerning Foreign Research Reactor Spent Nuclear Fuel (FRR SNF EIS) (DOE/EIS-0218, February 1996) to allow the United States to transport up to 1 metric ton heavy metal (MTHM) (1.1 tons) of spent nuclear fuel (Gap Material SNF) from foreign research reactor (FRR) locations to the United States and safely store this Gap Material at a DOE site pending disposition. Gap Material consists primarily ¹ of a limited quantity of (1) SNF containing non-U.S.-origin highly enriched uranium (HEU) and (2) SNF containing U.S.-origin HEU that was not previously addressed in the FRR SNF EIS. DOE prepared a Supplement Analysis of the FRR SNF EIS in accordance with DOE's National Environmental Policy Act (NEPA) Implementing Procedures (10 CFR Part 1021). This analysis addressed the potential health and environmental impacts of accepting Gap Material SNF and concluded that the recovery and transport of this material to the United States would constitute neither substantial changes to the proposed action nor significant new circumstances relevant to environmental concerns bearing on the proposed action evaluated in the FRR SNF EIS. Acceptance of Gap Material SNF would not cause the total quantity of SNF projected to be received under DOE's FRR SNF Acceptance Program to exceed the estimates analyzed in the FRR SNF EIS.

¹ The GAP Material addressed in this Revised Record of Decision also includes certain non-U.S.-origin unirradiated fuel (fresh fuel) containing HEU.

ADDRESSES: The Supplement Analysis will be available on DOE's NEPA Web site at http://www.gc.energy.doe.gov/NEPA and in DOE Public Reading Rooms as follows: U.S. Department of Energy, 1000 Independence Avenue, SW., Room G-051, Washington, DC 20585, (202) 586-5955. The public reading room is open from 9 a.m. to 4 p.m., Monday through Friday. The University of South Carolina—Aiken Library, 471 University Parkway, Aiken, South Carolina 29801, (803) 641-3320. The library is open from 8 a.m. to 5 p.m., Monday through Friday.

FOR FURTHER INFORMATION CONTACT: For further information on DOE's Foreign Research Reactor Spent Nuclear Fuel Acceptance Program or this Revised Record of Decision, contact: Mr. Andrew Bieniawski, Assistant Deputy Administrator for Defense Nonproliferation, Office of Global Threat Reduction (NA-21), U.S. Department of Energy, 1000 Independence Avenue, SW., Washington, DC 20585, Attn: 955 L'Enfant, 202-586-9215.

For information on DOE's NEPA process, contact: Ms. Carol M. Borgstrom, Director, Office of NEPA Policy and Compliance (GC-20), U.S. Department of Energy, 1000 Independence Avenue, SW., Washington, DC 20585, (202) 586-4600, or leave a message at (800) 472-2756.

SUPPLEMENTARY INFORMATION:

Background

DOE, with the Department of State as a cooperating agency, issued the FRR SNF EIS (DOE/EIS-0218) in February 1996. The FRR SNF EIS considered the potential environmental impacts of a proposed policy to accept and manage in the United States SNF and target material from foreign research reactors (FRRs). DOE issued a Record of Decision (ROD) which was published in the Federal Register on May 17, 1996 (61 FR 25092) announcing its decision to implement the proposed policy as identified in the Preferred Alternative contained in the FRR SNF EIS, subject to additional stipulations specified in Section VII of the ROD. This FRR SNF Acceptance Policy provides for acceptance of 19.2 tons of SNF containing HEU enriched in the United States from research reactors located in 41 countries. In a separate Federal Register Notice (61 FR 26507; May 28, 1996), DOE announced the fee policy for accepting FRR SNF.

Five previous revisions to the original ROD have been issued: On July 25, 1996 (61 FR 38720), and August 25, 2008 (73 FR 5004), the ROD was revised to provide the FRR SNF Acceptance Program with greater flexibility about the location where it takes title to FRR SNF. On July 19, 2000 (65 FR 44767), the ROD was revised to reflect DOE's decision to increase the number of transportation casks allowable per shipment. On December 1, 2004 (69 FR 69901), the ROD was revised to extend the expiration date for irradiation for a limited amount of FRR SNF (not to exceed the 19.2 tons originally eligible and to include a small number of SNF elements from the Replacement Research Reactor in Australia). In addition, on April 13, 1999 (64 FR 18006), DOE announced a clarification to the fee policy in the event of a change in the economic status of the country from which the SNF would be removed.

Purpose and Need for Action

Reducing the threat posed by the proliferation of nuclear weapons is a foremost goal of the United States. To continue to meet DOE's objective of reducing, and eventually eliminating, HEU from civil commerce worldwide, DOE needs to extend its FRR SNF Acceptance Policy to certain SNF, called Gap Material SNF, which is not currently covered under the policy. This Gap Material SNF consists of up to 1 MTHM (1.1 tons) FRR SNF containing HEU that is either non-U.S. origin or is of U.S. origin but was not addressed previously in the FRR SNF EIS. This Gap Material SNF will come from research reactors and not commercial power plants.

Proposed Action

DOE proposes to bring this Gap Material SNF to the United States for management if the material poses a threat to national security, is susceptible for use in an improvised nuclear device, presents a high risk of terrorist threat, and has no other reasonable pathway to assure security from theft or diversion. DOE proposes to revise the FRR SNF Acceptance Program Record of Decision to include transport of Gap Material SNF from FRR locations to the United States if the material meets the above criteria and safely store Gap Material SNF at the DOE Savannah River Site in South Carolina pending disposition. Gap Material SNF consists of up to 1 MTHM (1.1 tons) of SNF containing either non-U.S.-origin HEU or U.S.-origin HEU that was not previously addressed in the FRR SNF EIS. The total amount of potentially eligible SNF under the FRR SNF Acceptance Program would remain unchanged from the 19.2 tons of SNF analyzed in the FRR SNF EIS and cited in the May 17, 1996 (61 FR 25092) ROD announcing the FRR SNF Acceptance Policy.

NEPA Review

DOE prepared its Supplement Analysis (SA) for U.S. Disposition of Gap Material—Spent Nuclear Fuel (DOE/EIS-0218-SA-4) in accordance with DOE's NEPA Implementing Procedures (10 CFR Part 1021) to determine whether a supplement to the FRR SNF EIS or a new EIS is required. The SA evaluated the potential environmental impacts of the transport by ship of Gap Material SNF to a United States seaport, the unloading of ships at the seaport and the transfer of the Gap Material SNF to transport vehicles, the overland transport (by truck or rail) of Gap Material SNF to the Savannah River Site, and the acceptance and storage of the Gap Material SNF, pending disposition. The SA also evaluated overland transport of Gap Material SNF from Canada to the Savannah River Site. Including Gap Material SNF, the total quantity of SNF to be received under the FRR SNF Acceptance Program is expected to be smaller than the quantity analyzed in the FRR SNF EIS because some countries with material analyzed under the FRR SNF EIS elected not to participate in the FRR SNF Acceptance Program.

Collective doses projected to be received by ship crew members and seaport workers for implementing the FRR SNF Acceptance Program (including Gap Material SNF) are expected to be smaller than the doses projected in the FRR SNF EIS. Experience with receipt of FRR SNF has indicated that the external radiation levels at the surfaces of transport casks containing FRR SNF have been significantly smaller than those levels assumed for the FRR SNF EIS. Nonetheless, DOE plans to extend the mitigation action plan announced in the May 1996 ROD and currently in place for FRR SNF to Gap Material SNF to ensure that individual ship crew member doses are maintained as low as reasonably achievable and less than 100 millirem in a year.

With respect to routine overland transport of FRR SNF to the Savannah River Site, the analysis was updated from that in the FRR SNF EIS to reflect projected population increases along representative transportation routes and the Department's currently recommended dose-to-risk conversion factor for estimating risks from radiation exposures. The analysis concluded that the updated potential impacts from overland transportation of SNF would be small with no latent cancer fatalities projected for transport crews or members of the public.

The analysis also addressed the potential for severe accidents at a seaport and during overland transport to Savannah River. The accident analysis was updated from that performed in the FRR SNF EIS to reflect changes in populations along representative transportation routes and the Department's currently recommended dose-to-risk conversion factor for estimating risks from radiation exposures. The risks were determined to be low with no latent cancer fatalities expected among transport crews or members of the public. The potential for intentional destructive acts was also addressed and the impacts from such possible acts were determined to be comparable to those previously analyzed in the FRR SNF EIS.

Receipt and storage of Gap Material SNF at the Savannah River Site are not expected to cause impacts at the site that would differ from or exceed those identified in the FRR SNF EIS. Gap Material SNF is expected to ultimately be disposed of in a geologic repository. Disposition of Gap Material SNF is not expected to result in any changes to the envelope of impacts addressed in the FRR SNF EIS, the Savannah River Site Spent Fuel Management Final Environmental Impact Statement (DOE/EIS-0279, March 2000), and the Environmental Impact Statement for a Geologic Repository for the Disposal of Spent Nuclear Fuel and High-Level Radioactive Waste at Yucca Mountain (DOE/EIS-0250, February 2002) and its supplemental EISs (DOE/EIS-0250-S1, DOE/EIS-0250-S2, and DOE/EIS-0369, June 2008). Acceptance of Gap Material SNF will occur under the condition that Gap Material SNF complies with the acceptance criteria of the SRS facility receiving the Gap Material SNF and that sufficient storage capacity exists at the facility, pending disposition of the material.

Decision

DOE has decided to amend the FRR SNF EIS Record of Decision to accept up to 1 MTHM (1.1 tons) of foreign research reactor SNF containing either non-U.S.-origin HEU or SNF containing U.S.-origin HEU that was not previously addressed in the FRR SNF EIS.² DOE would only accept the material if it poses a threat to national security, is susceptible for use in an improvised nuclear device, presents a high risk of terrorist threat, and has no other reasonable pathway to assure security from theft or diversion.

² This decision also includes acceptance of non-U.S.-origin HEU in unirradiated (fresh) fuel that will be transported to the Y-12 National Security Complex in Oak Ridge, Tennessee. Management of such HEU is addressed in the Site-wide Environmental Impact Statement for the Y-12 National Security Complex (DOE/EIS-0309, 2001) and associated ROD (67 FR 11296; March 13, 2002).

Further, acceptance of this material would be undertaken consistent with existing conditions of the FRR SNF Acceptance Program. The FRR SNF Acceptance Program provides for fuel acceptance through May 12, 2019. DOE will continue limitations on shipment cask curie activity and will ensure that the upper limit estimate for the source term assumed in the FRR SNF EIS accident analysis will not be exceeded. DOE will extend the mitigation action plan announced in the May 1996 ROD and currently in place for FRR SNF to Gap Material SNF to ensure that individual ship crew member doses are maintained as low as reasonably achievable and less than 100 millirem in a year. Acceptance of Gap Material SNF will occur in accordance with processes implemented to ensure compliance with DOE and international requirements. Shipments of Gap Material SNF will occur under the condition that Gap Material SNF complies with the acceptance criteria of the SRS facility receiving the Gap Material SNF and that sufficient storage capacity exists at the facility, pending disposition of the material.

Conclusion

DOE's decision furthers the nonproliferation objectives of the United States. The decision provides for the management and disposition of certain material not previously addressed in the FRR SNF EIS that poses a threat to national security, is susceptible to use in an improvised nuclear device, presents a high risk of terrorist threat, and has no other reasonable pathway to assure security from theft or diversion.

The decision set forth in this Revised ROD complies with the requirements of NEPA (42 U.S.C. 4321 et seq.) and its implementing regulations at 40 CFR Parts 1500-1508 and 10 CFR Part 1021. Potential impacts resulting from implementing this action will remain within the range of the potential environmental impacts analyzed in the FRR SNF EIS. This action does not constitute either a substantial change or significant new circumstance relevant to environmental concerns. There are no significant new circumstances or information relevant to environmental concerns related to this action or its impacts within the meaning of 40 CFR 1502.9(c) and 10 CFR 1021.314. Therefore, neither a supplement to the FRR SNF EIS nor a new EIS is needed.

Issued in Washington, DC, on this 13th day of January, 2009.
Thomas P. D'Agostino,
Administrator, National Nuclear Security Administration.

[FR Doc. E9-1279 Filed 1-22-09; 8:45 am]

BILLING CODE 6450-01-P